POSTAL REGULATORY COMMISSION

[Docket No. CP2020-250; Order No. 5639]

Inbound EMS 2

AGENCY: Postal Regulatory Commission.

ACTION: Notice.

SUMMARY: The Commission is acknowledging a recent Postal Service filing of its intention to change prices not of general applicability to be effective January 1, 2021. This document informs the public of the filing, invites public comment, and takes other administrative steps.

DATES: Comments are due: August 24, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On August 14, 2020, the Postal Service filed notice pursuant to 39 CFR 3035.105, announcing its intention to change rates not of general applicability for Inbound EMS 2 effective January 1, 2021.¹

¹ Notice of the United States Postal Service of Filing Changes in Rates Not of General Applicability for Inbound EMS 2, and Application for Non-Public Treatment, August 14, 2020, at 1 (Notice).

II. Contents of Filing

To support its proposed Inbound EMS 2 prices, the Postal Service filed a redacted version of the proposed prices, a copy of the certification required under 39 CFR 3035.105(c)(2), a redacted copy of Governors' Decision No. 19-1, a redacted copy of the most recent annual EMS Pay-for-Performance (PfP) Plan (for 2020), a redacted copy of the most recent available EMS Cooperative Report Cards for Calendar Year (CY) 2019, and redacted copies of relevant portions of the four quarterly EMS PfP reports for CY 2019 used to calculate any PfP penalties. Notice at 2-3; see id. Attachments 2-7.

Additionally, the Postal Service filed unredacted copies of Governors' Decision No. 19-1, its proposed prices, service performance data and plan, and related financial information under seal. Notice at 2. The Postal Service also filed an application for non-public treatment of materials under seal. Id. Attachment 1.

III. Commission Action

The Commission establishes Docket No. CP2020-250 for consideration of matters raised by the Notice and appoints Katalin K. Clendenin to serve as Public Representative in this docket.

The Commission invites comments on whether the Postal Service's filing is consistent with 39 U.S.C. 3632, 3633, and 39 CFR part 3035. Comments are due no later than August 24, 2020. The public portions of the filing can be accessed via the Commission's website (http://www.prc.gov). Non-public portions of the Postal Service's request(s) can be accessed through compliance with the requirements of 39 CFR part 3011.

IV. Ordering Paragraphs

It is ordered:

1. The Commission establishes Docket No. CP2020-250 for consideration of the matters raised by the Postal Service's Notice.

2. Pursuant to 39 U.S.C. 505, Katalin K. Clendenin is appointed to serve as an officer of the Commission to represent the interests of the general public in this proceeding (Public Representative).

3. Comments are due no later than August 24, 2020.

4. The Secretary shall arrange for publication of this order in the Federal Register.

By the Commission.
Erica A. Barker,
Secretary.

[FR Doc. 2020-18327 Filed 8-20-20; 8:45 am]

BILLING CODE 7710-FW-P